NATIONAL FOUNDATION ON THE ARTS AND THE HUMANITIES

Humanities Panel Federal Advisory Committee; Notice of Charter Renewal

AGENCY: The National Endowment for the Humanities.

ACTION: Notice of Renewal.

SUMMARY: Under the provisions of the Federal Advisory Committee Act of 1972, 5 U.S.C. App. 2 (Pub. L. 92-463, 86 Stat. 770), as amended, the National Endowment for the Humanities (NEH) gives notice that it will renew the charter for the Humanities Panel for 2 years from December 29, 2007 to December 29, 2009. The Chairman of NEH has determined that the renewal of the Humanities Panel is necessary and in the public interest in connection with the performance of duties imposed upon the Chairman of NEH by the Federal Advisory Committee Act of 1972, 5 U.S.C. App. 3(2) (Pub. L. 92-463, 86. Stat. 770), as amended, and section 10(a)(4) of the National Foundation on the Arts and the Humanities Act of 1965, 20 U.S.C. 959(a)(4), as amended.

FOR FURTHER INFORMATION CONTACT: Heather C. Gottry, Acting Committee Management Officer, 1100 Pennsylvania Avenue, NW., Room 529, Washington, DC 20506. (Phone: (202) 606-8322, facsimile (202) 606-8600, or e-mail to gencounsel@neh.gov.) Hearing-impaired individuals are advised that information on this matter may be obtained by contacting the Endowment's TDD terminal on (202) 606-8282.

SUPPLEMENTARY INFORMATION: The Humanities Panel is a Federal advisory committee under 5 U.S.C. App. 2 (Pub. L. 92-463, 86. Stat. 770). The purpose and objective of the Humanities Panel is to advise the National Council on the Humanities and the Chairman of the NEH concerning policies, programs, and procedures of the Endowment as requested. The Humanities Panel furthermore makes recommendations on applications for financial support submitted to NEH.

Members of the Humanities Panel are selected on the basis of their subject matter expertise in a humanities discipline or on the basis of their experience in a humanities institution, or both, in order to ensure that all applications are reviewed under the highest standards of excellence in the humanities. The NEH selects panelists from a broad range of humanities disciplines (including languages, literature, history, jurisprudence, philosophy, archaeology, comparative religion, ethics, and the history, criticism, and theory of the arts). Panelists also are selected from a wide range of humanities institutions (including colleges, universities, archives, libraries, museums and historical societies). By statute, the Humanities Panel is also required to have broad geographic and culturally diverse representation.

Dated: December 11, 2007.
Heather C. Gottry,
Acting Committee Management Officer.

[FR Doc. E7-24268 Filed 12-13-07; 8:45 am]

BILLING CODE 7536-01-P